DEPARTMENT OF THE INTERIOR

Bureau of Land Management

[MT-070-00-1010-DA]

Proposed BLM Resource Management Plan Amendment From the Designation of Environmentally Preferred Alternative in the Clancy-Unionville Vegetative Manipulation and Travel Management Final Environmental Impact Statement

AGENCY: Bureau of Land Management, DOI.

ACTION: Notice.

SUMMARY: The USDI, Bureau of Land Management, and USDA, Forest Service have released the Clancy-Unionville Vegetative Manipulation and Travel Management Project Final Environmental Impact Statement (FEIS) for public examination. The BLM has determined that a Resource Management Plan (RMP) Amendment is preferred, as described under the “Features Common to All BLM Action Alternatives” section of the FEIS located on page II-8 of the document.

Public Participation: Headwaters RMP Amendment: The Travel Planning features analyzed in this FEIS and part of the Environmentally Preferred Alternative are subject to the provisions of BLM regulations under 43 CFR Part 1600. The BLM travel management features, as found in the draft EIS for the Clancy-Unionville Vegetation Manipulation and Travel Management Project, were available for public review and comment for 90 days, beginning November 6, 1998. Written comments were received from agencies, individuals, and organizations. All comments were considered in the preparation of the FEIS and the proposed RMP Amendment.

The resource management planning process includes the opportunity for review of the RMP Amendment and, if desired, to submit a protest to the BLM's Director. Any person or organization who participated in the planning process and who has an interest that is or may be adversely affected by the approval of this RMP Amendment may protest the plan. Careful adherence to the following guidelines will help you prepare a protest that will assure the greatest consideration for your point of view.

Only those persons or organizations who participated in the planning process may protest the plan. A protesting party may raise only those issues which were commented on during the planning process.

DATES: The protest period lasts 30 days and begins March 17, 2000, the day this Notice of Availability is published in the Federal Register. There is no provision for an extension of time. Protests filed late or filed with the State Director, Field Manager or the Forest Service shall be rejected by the Director. To be considered “timely” your protest must be postmarked no later than April 17, 2000. Although not a requirement, sending your protest by “certified mail, return receipt requested,” is recommended.

ADDRESSES: Reading copies of the Environment Impact Statement and proposed RMP Amendment will be available at the BLM's Butte Field Office, 106 North Parkmont, Butte, Montana 59702, or the Forest Service's Helena Ranger District, 2001 Poplar Street, Helena, Montana 59601.

All protests must be filed in writing to: Director, Bureau of Land Management, Attention: Ms. Brenda Williams, Protests Coordinator, WO-210/LS-1075, Department of the Interior, Washington, D.C. 20240.

The Overnight Mail address is: Director, Bureau of Land Management, Attention: Ms. Brenda Williams, Protests Coordinator, 1620 L Street NW, Room 1075, Washington, D.C. 20036.

To expedite consideration, in addition to the original protect being sent by mail or overnight mail, a copy of the protest may be sent by fax to 202-452-5112 or by electronic mail to bhudgens@wo.blm.gov.

To be considered complete, your protest must contain, at a minimum, the following information:

(1) The name, mailing address, telephone number, and interest of the persons filing the protest;

(2) A statement of the issue being protested;

(3) A statement of the portion of the plan being protested. To the extent possible, this should be done by referencing specific pages, paragraphs, sections, tables, and maps in the proposed RMP Amendment.

(4) A copy of all documents addressing the issue that were submitted during the planning process or a reference to the date the issue was discussed for the record.

(5) A concise statement explaining why the BLM State Director's decision is believed to be incorrect (a critical part of the protest).

Take care to document all relevant facts and to reference or cite the planning documents, environmental analysis documents, and available planning records (meeting minutes, summaries, correspondence). A protest without data will not provide us with the benefit of your information and insight, and the Director's review will be based on the existing analysis and supporting data.

At the end of the 30-day protest period, the BLM may issue a Record of Decision approving implementation of any portion of the proposed plan not under protest. Approval will be withheld on any portion of the plan that is under protest, until the protest is resolved.

FOR FURTHER INFORMATION CONTACT: Mike Small of the BLM Butte Field Office at 406-494-5059.

Dated: February 25, 2000.
Steve Hartmann,
Acting Field Manager.

[FR Doc. 00-6589 Filed 3-16-00; 8:45 am]

BILLING CODE 4310-DN-P